DEPARTMENT OF DEFENSE

GENERAL SERVICES ADMINISTRATION

NATIONAL AERONAUTICS AND SPACE ADMINISTRATION

[OMB Control No. 9000-0097; Docket No. 2019-0003; Sequence No. 16]

Information Collection; Federal Acquisition Regulation Part 4 Requirements

AGENCY: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a renewal concerning FAR part 4 requirements.

DATES: Submit comments on or before May 21, 2019.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0097 Federal Acquisition Regulation Part 4 Requirements.

Instructions: All items submitted must cite Information Collection 9000-0097 Federal Acquisition Regulation Part 4 Requirements. Comments received generally will be posted without change to http://www.regulations.gov, including any personal and/or business confidential information provided. To confirm receipt of your comment(s), please check www.regulations.gov, approximately two to three days after submission to verify posting (except allow 30 days for posting of comments submitted by mail). This information collection is pending at the FAR Council. The Council will submit it to OMB within 60 days from the date of this notice.

FOR FURTHER INFORMATION CONTACT: Mahruba Uddowla, Procurement Analyst, at telephone 703-605-2868, or email mahruba.uddowla@gsa.gov.

SUPPLEMENTARY INFORMATION:

A. Overview of Information Collection

Description of the Information Collection

1. Type of Information Collection: Revision/Renewal of a currently approved collection.

2. Title of the Collection—Federal Acquisition Regulation Part 4 Requirements.

3. Agency form number, if any:—None.

Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

This information collection requirement, OMB Control No. 9000-0097, currently titled “Taxpayer Identification Number Information,” is proposed to be retitled “Federal Acquisition Regulation Part 4 Requirements” due to consolidation with currently approved information collection requirements OMB Control No. 9000-0159, System for Award Management (SAM) Registration; 9000-0145, Use of Data Universal Numbering System (DUNS) as Primary Contractor Identification; and 9000-0179, Service Contractor Reporting Requirement.

This information collection requirement pertains to information that a contractor must submit in response to a number of requirements from FAR Part 4, which are as follows:

1. Taxpayer Identification Number Information. FAR Subpart 4.9, Taxpayer Identification Number Information, and the provision at 52.204-3, Taxpayer Identification, implement statutory and regulatory requirements pertaining to taxpayer identification and reporting.

2. SAM Registration and Maintenance. FAR Subpart 4.11 prescribes policies and procedures for requiring contractor registration in the System for Award Management (SAM) database to: (1) Increase visibility of vendor sources (including their geographical locations) for specific supplies and services; and (2) establish a common source of vendor data for the Government. FAR provision 52.204-7, System for Award Management, implements the requirement for offerors on Federal contracts. The clause requires prospective contractors to be registered in the SAM database prior to award of a contract or agreement, except in certain limited cases. Offerors are required to provide certain business information, including their Taxpayer Identification Number (TINs) and Electronic Funds Transfer (EFT) information only once into a common Governmentwide data source. FAR clause 52.204-13, System for Award Management Maintenance, requires contractors to make sure their SAM data is kept current, accurate, and complete throughout contract performance and final payment; this maintenance is, at a minimum, to be done through an annual review and update of the contractor's SAM registration. FAR provision 52.212-1 and clause 52.212-4 contains the equivalent of 52.204-7 and 52.204-13 respectively, for commercial acquisitions.

3. Use of Unique Entity Identifier as Primary Contractor Identification (formerly known as Data Universal Numbering System (DUNS)). The DUNS number is the nine-digit identification number assigned by Dun and Bradstreet Information Services to an establishment. The Government uses the DUNS number to identify contractors in reporting to the Federal Procurement Data System (FPDS). The FPDS provides a comprehensive mechanism for assembling, organizing, and presenting contract placement data for the Federal Government. Federal agencies report data on all contracts in excess of $3,500 to FPDS. In 2016, the FAR was amended to redesignate the terminology for unique identification of entities receiving Federal awards; the proprietary term “DUNS number” was replaced by the term “unique entity identifier.” Contracting officers insert the FAR provision 52.204-6, Unique Entity Identifier, in solicitations they expect will result in contracts in excess of $3,500. This provision requires offerors to submit their unique entity identifier, which for now is the DUNS number, with their offer. If the offeror does not have a DUNS number, the provision provides instructions on obtaining one. Contracting officer also insert FAR clause 52.204-12, Unique Entity Identifier Maintenance, in all solicitations and resulting contracts containing provision 52.204-6. The clause requires contractors to maintain their unique entity identifier with whatever organization issues such identifiers, for the life of the contract; clause also requires contractors to notify contracting officers of any changes to the unique entity identifier.

4. Service Contractor Reporting Requirement. Section 743(a) of Division C of the Consolidated Appropriations Act, 2010 (Pub. L. 111-117) requires executive agencies covered by the Federal Activities Inventory Reform (FAIR) Act (Pub. L. 105-270), except DoD, to submit to the Office of Management and Budget (OMB) annually an inventory of activities performed by service contractors. DoD is exempt from this reporting requirement because 10 U.S.C 2462 and 10 U.S.C. 2330a(c) already require DoD to develop an annual service contract inventory. This information collection covers the burden hours related to the requirement at FAR subpart 4.17, Service Contracts Inventory, and its associated clauses, 52.204-14 and 52.204-15.

C. Annual Reporting Burden

1. Taxpayer Identification Number Information.

Respondents: 72,785.

Responses per Respondent: 3.

Total Annual Responses: 218,355.

Hours per Response: 0.1.

Total Burden Hours: 21,835.5.

2. SAM Registration and Maintenance.

Respondents: 59,738.

Responses per Respondent: 1.

Total Annual Responses: 59,738.

Hours per Response: 2.6.

Total Burden Hours: 155,408.

3. Unique Entity Identifier.

Respondents: 83,703.

Responses per Respondent: 2.74.

Total Annual Responses: 229,273.

Hours per Response: 0.02.

Total Burden Hours: 5,240.54.

4. Service Contractor Reporting Requirement.

Respondents: 79,825.

Responses per Respondent: 1.

Total Annual Responses: 79,825.

Hours per Response: 2.

Total Burden Hours: 159,650.

5. Summary.

Respondents: 296,051.

Total Annual Responses: 587,191.

Total Burden Hours: 198,629.04.

Affected Public: Businesses or other for-profit and not-for-profit institutions.

Frequency: Variable, depending on the collection.

Obtaining Copies: Requesters may obtain a copy of the information collection documents from the General Services Administration, Regulatory Secretariat Division (MVCB), 1800 F Street NW, Washington, DC 20405, telephone 202-501-4755. Please cite OMB Control No. 9000-0097 Federal Acquisition Regulation Part 4 Requirements, in all correspondence.

Dated: March 19, 2019.
Janet Fry,
Director, Federal Acquisition Policy Division, Office of Governmentwide Acquisition Policy, Office of Acquisition Policy, Office of Governmentwide Policy.

[FR Doc. 2019-05498 Filed 3-21-19; 8:45 a.m.]

BILLING CODE 6820-EP-P